DEPARTMENT OF VETERANS AFFAIRS

Amended: Advisory Committee on Homeless Veterans, Notice of Meeting

The Department of Veterans Affairs (VA) gives notice under the Federal Advisory Committee Act, 5 U.S.C. App. 2 that a meeting of the Advisory Committee on Veterans at-risk and experiencing homelessness will be held May 10 through May 12, 2017. On May 10 and May 11, the Committee will meet at the Department of Veterans Affairs, 810 Vermont Avenue Northwest, Room 530, Washington, DC, from 8:00 a.m. to 5:00 p.m. On May 12, the Committee will meet at the Department of Veterans Affairs, 810 Vermont Avenue Northwest, Room 530, Washington, DC, from 8:00 a.m. to 12:00 p.m. The meeting sessions are open to the public.

The purpose of the Committee is to provide the Secretary of Veterans Affairs with an on-going assessment of the effectiveness of the policies, organizational structures, and services of VA in assisting Veterans at-risk and experiencing homelessness. The Committee shall assemble and review information related to the needs of homeless Veterans and provide advice on the most appropriate means of providing assistance to that subset of the Veteran population. The Committee will make recommendations to the Secretary regarding such activities.

The agenda will include briefings from officials at VA and other agencies regarding services for homeless Veterans. The Committee will also receive a briefing on the annual report that was developed after the last meeting of the Advisory Committee on Homeless Veterans and will then discuss topics for its upcoming annual report and recommendations to the Secretary of Veterans Affairs.

No time will be allocated at this meeting for receiving oral presentations from the public. Interested parties should provide written comments on issues affecting Veterans at-risk and experiencing homelessness for review by the Committee to Anthony Love, Designated Federal Officer, VHA Homeless Programs Office (10NC1), Department of Veterans Affairs, 90 K Street Northeast, Washington, DC, or via email at Anthony.Love@va.gov.

Members of the public who wish to attend in-person should contact both Charles Selby and Timothy Underwood of the VHA Homeless Program Office by April 25, 2017, at Charles.Selby@va.gov and Timothy.Underwood@va.gov, while providing their name, professional affiliation, address, and phone number. There will also be a call-in number at 1-800-767-1750; Access Code: 79421#. A valid government issued ID is required for admission to the meeting. Attendees who require reasonable accommodation should state so in their requests.

Dated: March 24, 2017.
Jelessa M. Burney,
Federal Advisory Committee Management Officer.

[FR Doc. 2017-06203 Filed 3-28-17; 8:45 am]

BILLING CODE P